DEPARTMENT OF ENERGY

Federal Energy Regulatory Commission

[Project No. 3407-086]

Magic Reservoir Hydroelectric, Inc., Big Wood Canal Company; Notice of Application for Transfer of License and Soliciting Comments, Motions To Intervene, and Protests

On May 10, 2018, Magic Reservoir Hydroelectric, Inc. (transferor) and Big Wood Canal Company (transferee) filed an application for the transfer of license of the Magic Dam Project No. 3407. The project is located on the Big Wood River in Blaine and Camas counties, Idaho and occupies Federal lands managed by the Bureau of Land Management.

The applicants seek Commission approval to transfer the license for the Magic Dam Project from the transferor to the transferee.

Applicants Contact: For transferor: Mr. James B. Alderman, Secretary, Magic Reservoir Hydroelectric Inc., c/o J.R. Simplot Company, 1099 W Front Street, Boise, ID 83702, Phone: 208-780-7316.

For transferee: Mr. Carl Pendleton, Chairman of the Board, Big Wood Canal Company, 409 North Apple Street, Shoshone, ID 83352, Phone: 208-420-6401 and Mr. Ted S. Sorenson, 1032 Grandview Drive, Ivins, UT 84738.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-3407-086.

Dated: June 6, 2018.
Nathaniel J. Davis, Sr.,
Deputy Secretary.

[FR Doc. 2018-12584 Filed 6-11-18; 8:45 am]

BILLING CODE 6717-01-P